GENERAL SERVICES ADMINISTRATION

[Notice-PBS-2025-04; Docket No. 2025-0002; Sequence No. 5]

Notice of Availability of a Final Environmental Impact Statement for a New Federal Courthouse in Hartford, Connecticut

AGENCY: New England Region, Public Buildings Service (PBS), U.S. General Services Administration (GSA).

ACTION: Notice of availability (NOA).

SUMMARY: This notice announces the availability of the Final Environmental Impact Statement (EIS) that analyzes the potential environmental effects from the acquisition of a site in Hartford, CT, and the subsequent design, construction, and operation of a new federal courthouse. The new courthouse would be owned and managed by GSA and occupied by the U.S. District Court for the District of Connecticut (the Court) and related agencies. The Final EIS describes the purpose and need for the project; the alternatives considered; the existing environment that could be affected; the potential impacts resulting from each of the alternatives and proposed best management practices and mitigation measures. The Final EIS identifies the Preferred Alternative, as summarized below (see the SUPPLEMENTARY INFORMATION section of this NOA). The Final EIS can be viewed or downloaded from the GSA project website at www.gsa.gov/hartfordcourthouse. Hard copies are available for review at the Hartford Public Library, Albany Branch located at 1250 Albany Ave, Hartford, CT 06112; Hartford Public Library, Park Street Branch located at 603 Park St, Hartford, CT 06106; and Hartford City Hall located at 550 Main St, Room 001, Hartford, CT 06103.

DATES: The Final EIS Wait Period begins with publication of this NOA in the Federal Register and will last until June 9, 2025. Any comments regarding the Final EIS must be postmarked or received by the last day of the 30-day Final EIS Wait Period (see the ADDRESSES section of this NOA for how to submit comments). After the Wait Period, GSA will issue the Record of Decision (ROD).

ADDRESSES: Comments on the Final EIS may be submitted by one of the following methods:

• Email: HartfordCourthouse@gsa.gov with subject line “Hartford Courthouse Final EIS”

• Mail: General Services Administration, Attention: Joseph Mulligan, Project Manager, JCK Federal Building, 230 S. Dearborn, Suite 3600, Chicago, IL 60604

Comments sent by any other method or to any other address or individual may not be considered by GSA. Comments received or postmarked after the 30-day Final EIS Wait Period may not be considered by GSA. All comments received are part of the public record. All personal identifying information (e.g., name, address, etc.), confidential business information, or otherwise sensitive information submitted voluntarily by the sender will be publicly accessible. GSA will accept anonymous comments.

FOR FURTHER INFORMATION CONTACT: Joseph Mulligan, GSA Project Manager, 312-505-5426, at HartfordCourthouse@gsa.gov.

SUPPLEMENTARY INFORMATION: GSA has considered and incorporated stakeholder input and public comments provided during the scoping and Draft EIS comment periods to develop the Final EIS and determine the Preferred Alternative.

GSA's Preferred Alternative for the site acquisition, and subsequent design, construction and operation of a new federal courthouse in Hartford is Alternative 2, the Allyn Site. Under the Preferred Alternative, GSA would acquire the Allyn Site, consisting of approximately 2.19 acres of land located at 154 Allyn Street. The Allyn Site is bounded by Church Street to the north, High Street to the west, Allyn Street to the south, and mixed-use and religious buildings along its eastern perimeter. It is in the central business district of Hartford and is one block north of Bushnell Park. The Allyn Site currently serves as a surface parking lot. Under the Preferred Alternative, the new federal courthouse would likely contain up to two levels of underground secure parking. The majority of the Allyn Site, approximately 2 acres, would be excavated and graded in preparation for construction, and a small portion, approximately 0.25 acres, would be used as a staging area. GSA may lease a vacant paved lot in the vicinity of the Allyn Site for staging purposes due to the limited space availability at the site. The Project would generate approximately 50,000 to 75,000 cubic yards of excavated materials. A new landscape plan would be developed using native plantings. There appears to be adequate public parking in proximity to the Allyn Site, however, GSA may pursue options to provide additional parking such as entering into a lease with a commercial parking operator.

Background

The Court currently operates at three facilities: the Richard C. Lee U.S. Courthouse in New Haven (its headquarters location), the Brien McMahon Federal Building and U.S. Courthouse in Bridgeport, and the Abraham A. Ribicoff Federal Building and Courthouse in Hartford (Ribicoff Federal Building and Courthouse).

The Ribicoff Federal Building and Courthouse, constructed in 1963, does not have the capacity to accommodate the functions and operations of the Court. The facility is inadequate in size and configuration for the Court's existing operations, including deficiencies in judicial, juror, and detainee circulation and overall facility security. The Court's long-term facilities planning and GSA's feasibility studies concluded that relocating the Court's headquarters to Hartford would provide efficiencies in judicial operations across the State. The results from these studies led to GSA's proposal to locate the Court and related agencies at a new courthouse in Hartford.

GSA has prepared a Final EIS to assess the potential impacts of this project.

Alternatives Considered

GSA evaluated two action alternatives in the Final EIS. Both would involve site acquisition, design, construction, and operation of a new federal courthouse in Hartford: (1) Alternative 1, Woodland Site, located at 61 Woodland Street, and (2) Alternative 2, Allyn Site, located at 154 Allyn Street. Key features of the proposed courthouse include (a) total building gross square footage of up to 281,000; (b) eleven courtrooms and eighteen judges chambers; (c) offices for the Court and related agencies; and (d) sixty-six secure parking spaces. GSA also considered a No Action alternative. The Final EIS describes the purpose and need for the proposed project, the alternatives considered, the existing environment that could be affected, the potential impacts resulting from each of the alternatives, and proposed best management practices and mitigation measures. The resource areas analyzed in the Final EIS include land use; utilities; traffic and transportation; air quality; solid and hazardous waste; socioeconomics; protection of children's health and safety; cultural resources; geology, topography, and soils; water resources; and visual resources. Based on the analysis presented in the Final EIS, impacts from the Preferred Alternative on all resource areas would be less-than-significant (i.e., negligible, minor, or moderate).

The Final EIS was prepared in compliance with the National Environmental Policy Act (NEPA) NEPA, as amended (42 United States Code [U.S.C.] et seq.), which requires federal agencies to examine the impacts of their proposed projects or actions on the human and natural environment and consider alternatives to the proposal before deciding on taking an action. The Final EIS complies with the GSA PBS NEPA Desk Guide and other relevant federal and state laws and regulations and executive orders.

Further information about the project can be viewed at: http://gsa.gov/hartfordcourthouse.

Jesse Lafreniere,
Director, Design and Construction Division, U.S. General Services Administration, PBS New England Region.

[FR Doc. 2025-08090 Filed 5-8-25; 8:45 am]

BILLING CODE 6820-RB-P